DEPARTMENT OF TRANSPORTATION

Federal Aviation Administration

14 CFR Part 39

[Docket No. FAA-2008-0675; Directorate Identifier 2007-NM-192-AD]

RIN 2120-AA64

Airworthiness Directives; Fokker Model F.28 Mark 0070 and Mark 0100 Airplanes

AGENCY: Federal Aviation Administration (FAA), Department of Transportation (DOT).

ACTION: Notice of proposed rulemaking (NPRM).

SUMMARY: The FAA proposes to supersede an existing airworthiness directive (AD) that applies to certain Fokker Model F.28 Mark 0070 and 0100 airplanes. The existing AD currently requires a one-time inspection of the main landing gear (MLG) main fitting for cracks, and repair if necessary. The existing AD also currently requires installing a placard and revising the airplane flight manual to include procedures to prohibit the application of brakes during backward movement of the airplane. This proposed AD would require repetitive eddy current inspections of the MLG main fitting and rework before further flight as applicable. This proposed AD results from reports that a final solution eliminating the cause of the crack initiation mechanism is not yet available and that repetitive inspections are necessary. We are proposing this AD to detect and correct cracks in the MLG main fitting, which could result in reduced structural integrity of the MLG main fitting.

DATES: We must receive comments on this proposed AD by August 1, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Fokker Services B.V., Technical Services Dept., P.O. Box 231, 2150 AE Nieuw-Vennep, the Netherlands.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2008-0675; Directorate Identifier 2007-NM-192-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On March 10, 2006, we issued AD 2006-06-07, amendment 39-14516 (71 FR 14363, March 22, 2006), for certain Fokker Model F.28 Mark 0070 and Mark 0100 airplanes. That AD requires inspecting the main landing gear (MLG) main fitting for cracks, and repairing if necessary. That AD also requires installing a placard and revising the airplane flight manual to include procedures to prohibit the application of brakes during backward movement of the airplane. That AD resulted from a report that an MLG main fitting failed on an airplane that was braking while moving backward. We issued that AD to detect and correct cracks in the MLG main fitting, which could result in reduced structural integrity of the MLG main fitting.

Actions Since Existing AD Was Issued

Since we issued AD 2006-06-07, we received reports from The Civil Aviation Authority—The Netherlands (CAA-NL), which is the airworthiness authority for the Netherlands, that a final solution eliminating the cause of the crack initiation mechanism is not yet available. Therefore, the inspection required by AD 2006-06-07 must now be done repetitively, until a final solution is developed to adequately address the identified unsafe condition of this AD.

Relevant Service Information

Messier-Dowty has issued Service Bulletin F100-32-111, dated December 20, 2005. The service bulletin describes procedures for doing a repetitive eddy current inspection of the MLG main fitting for cracks, and reworking the MLG main fitting as applicable. Accomplishing the actions specified in the service information is intended to adequately address the unsafe condition. The CAA-NL mandated the service information and issued airworthiness directive NL-2006-003, dated February 7, 2006, to ensure the continued airworthiness of these airplanes in the Netherlands.

FAA's Determination and Requirements of the Proposed AD

These airplanes are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that AD action is necessary for airplanes of this type design that are certificated for operation in the United States.

This proposed AD would supersede AD 2006-06-07 and would retain the requirements of the existing AD. This proposed AD would also require accomplishing the actions specified in the service information described previously, except as discussed under “Differences Between the Proposed AD and the Service Bulletin.”

Differences Between the Proposed AD and the Service Bulletin

Operators should note that, unlike the procedures described in the referenced Messier-Dowty Service Bulletin F100-32-111, dated December 20, 2005, the proposed AD would not permit further flight with any cracks in the MLG main fitting. Due to the safety implications and consequences of such cracking operators must repair all cracked MGL main fittings before further flight.

Costs of Compliance

The following table provides the estimated costs for U.S. operators to comply with this proposed AD.

Estimated Costs
Action | Work hours | Average labor rate per hour | Parts | Cost per airplane | Number of U.S.-registered airplanes | Fleet cost
Inspection (required by AD 2006-06-07) | 2 | $80 | None | $160 | 11 | $1,760
AFM Revision and Placard Installation (required by AD 2006-06-07) | 1 | 80 | None | 80 | 11 | 880
Inspection (new proposed action) | 6 | 80 | $540 ($270 per fitting) | 1,020 | 12 | 12,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14516 (71 FR 14363, March 22, 2006) and adding the following new airworthiness directive (AD):

Fokker: Docket No. FAA-2008-0675; Directorate Identifier 2007-NM-192-AD.

Comments Due Date

(a) The FAA must receive comments on this AD action by August 1, 2008.

Affected ADs

(b) This AD supersedes AD 2006-06-07.

Applicability

(c) This AD applies to Fokker Model F.28 Mark 0070 and Mark 0100 airplanes, certificated in any category, equipped with Messier-Dowty main landing gears (MLGs).

Unsafe Condition

(d) This AD results from reports that a final solution eliminating the cause of the crack initiation mechanism is not yet available. We are issuing this AD to detect and correct cracks in the main landing gear (MLG) main fitting, which could result in reduced structural integrity of the MLG main fitting.

Compliance

(e) You are responsible for having the actions required by this AD performed within the compliance times specified, unless the actions have already been done.

Restatement of Requirements of AD 2006-06-07

Airplane Flight Manual (AFM) Revision and Placard Installation

(f) Within 14 days after April 26, 2006 (the effective date of AD 2006-06-07), amend the Limitations section of the Fokker F.28 AFM to prohibit application of brakes during backward movement of the airplane. This may be done by inserting a copy of this AD in the AFM.

Note 1: When a statement to prohibit application of brakes during backward movement of the airplane has been included in the general revisions of the AFM, the general revisions may be inserted into the AFM, and the copy of this AD may be removed from the AFM.

(g) Within 14 days after April 26, 2006, affix a placard on the pedestal, next to the parking brake handle, having the following wording: “APPLICATION OF BRAKES DURING BACKWARD MOVEMENT IS PROHIBITED.”

Inspection and Corrective Action

(h) At the applicable time specified in paragraph (h)(1) or (h)(2) of this AD: Do an eddy current inspection of the MLG main fittings and repair before further flight as applicable, in accordance with the Accomplishment Instructions of Messier-Dowty Service Bulletin F100-32-106, including Appendices A through C and excluding Appendix D, dated February 18, 2005, except as provided by paragraphs (i) and (j) of this AD.

(1) For airplanes on which an inspection has not been done in accordance with Messier-Dowty Service Bulletin F100-32-104, Revision 2, dated October 30, 2003: Within 3 months after April 26, 2006.

(2) For airplanes on which an inspection has been done in accordance with Messier-Dowty Service Bulletin F100-32-104, Revision 2, dated October 30, 2003: Within 2,000 flight cycles since the last inspection done in accordance with the service bulletin or within 3 months after April 26, 2006, whichever occurs later.

Exceptions to the Service Bulletin

(i) Where Messier-Dowty Service Bulletin F100-32-106, including Appendices A through C and excluding Appendix D, dated February 18, 2005, specifies contacting the manufacturer for repair: Before further flight, repair using a method approved by either the Manager, International Branch, ANM-116, Transport Airplane Directorate, FAA; or the Civil Aviation Authority—The Netherlands (CAA-NL) (or its delegated agent).

(j) Although Messier-Dowty Service Bulletin F100-32-106, including Appendices A through C and excluding Appendix D, dated February 18, 2005, specifies to submit certain information to the manufacturer, this AD does not include that requirement.

Parts Installation

(k) As of April 26, 2006, and until the effective date of this AD, no person may install, on any airplane, a Messier-Dowty MLG, unless it has been inspected/repaired according to paragraph (h) of this AD.

New Requirements of This AD

Inspection and Repair

(l) At the applicable times specified in paragraphs (l)(1), (l)(2), and (l)(3) of this AD: Do an eddy current inspection of the MLG main fitting for cracks, and rework the MLG main fitting if applicable, in accordance with the Accomplishment Instructions of Messier-Dowty Service Bulletin F100-32-111, including Appendices A through C and excluding Appendix D, dated December 20, 2005; except as provided by paragraph (m) of this AD. The rework must be done before further flight.

(1) For all MLG main fittings, except those units identified in paragraph (l)(2) of this AD: Inspect within the next 2,000 flight cycles since the last inspection required by paragraph (h) of this AD, or within 4 months after the effective date of this AD, whichever occurs later.

(2) For new MLG main fittings and MLG main fittings on which both bores have been repaired (reworked) in accordance with paragraph (h) of this AD: Inspect within 4,000 flight cycles since new (installation) or repaired (rework) in accordance with paragraph (h) of this AD, as applicable.

(3) For all MLGs: Repeat the eddy current inspection thereafter at intervals not to exceed 2,000 flight cycles.

Exception to Service Bulletin F100-32-111

(m) Although Messier-Dowty Service Bulletin F100-32-111, including Appendices A through C and excluding Appendix D, dated December 20, 2005, specifies to submit certain information to the manufacturer, this AD does not include that requirement.

Parts Installation

(n) As of the effective date of this AD, no person may install, on any airplane, a Messier-Dowty MLG, unless it has been inspected and reworked in accordance with paragraph (l) of this AD.

Alternative Methods of Compliance (AMOCs)

(o) The Manager, International Branch, ANM-116, FAA, has the authority to approve AMOCs for this AD, if requested using the procedures found in 14 CFR 39.19. Send information to ATTN: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

Related Information

(p) The Civil Aviation Authority—The Netherlands airworthiness directive NL-2006-003, dated February 7, 2006, also addresses the subject of this AD.

Issued in Renton, Washington, on June 24, 2008.
Ali Bahrami,
Manager, Transport Airplane Directorate, Aircraft Certification Service.

11

[FR Doc. E8-14976 Filed 7-1-08; 8:45 am]

BILLING CODE 4910-13-P